DEPARTMENT OF EDUCATION

Advisory Committee on Student Financial Assistance: Meeting

AGENCY: Advisory Committee on Student Financial Assistance, Education.

ACTION: Notice of an opening meeting/hearing.

SUMMARY: This notice sets forth the schedule and proposed agenda of a forthcoming open hearing/meeting of the Advisory Committee on Student Financial Assistance. This notice also describes the functions of the Advisory Committee. Notice of an advisory committee meeting is required under Section 10(a)(2) of the Federal Advisory Committee Act. This document is intended to notify the general public of their opportunity to attend.

DATES: Date and Time: Thursday, September 19, 2013, beginning at 9:00 a.m. and ending at approximately 3:00 p.m. (EDT).

ADDRESSES: DoubleTree by Hilton Washington, DC—Crystal City, Salon A & B, North Tower, 300 Army Navy Drive, Arlington, VA 22202.

FOR FURTHER INFORMATION CONTACT: Ms. Janet Chen, Director of Programs, Advisory Committee on Student Financial Assistance, Capitol Place, 80 F Street NW., Suite 413, Washington, DC 20202-7582, (202) 219-2099.

SUPPLEMENTARY INFORMATION: The Advisory Committee on Student Financial Assistance is established under Section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act. In addition, Congress expanded the Advisory Committee's mission in the Higher Education Opportunity Act of 2008 to include several important areas: access, Title IV modernization, early information and needs assessment and review and analysis of regulations. Specifically, the Advisory Committee is to review, monitor and evaluate the Department of Education's progress in these areas and report recommended improvements to Congress and the Secretary.

The one-day hearing will consist of two main sessions. The morning session will be a discussion among representatives from the higher education community of the Advisory Committee's forthcoming report for HEA reauthorization scheduled to be released in September. The afternoon session will provide the public with an opportunity to comment on issues related to student aid for HEA reauthorization. To make public comments during the afternoon session, please email ACSFA@ed.gov with your name, contact information, and a brief summary of your comments by August 30, 2013. A limited number of speakers will be provided the opportunity to speak. Speakers will have up to five minutes to comment. Advisory Committee staff will contact presenters prior to the hearing to confirm participation.

Space for the hearing is limited and you are encouraged to register early. You may register on the Advisory Committee's Web site, http://www2.ed.gov/ACSFA or by sending an email to the following address: ACSFA@ed.gov or Tracy.Deanna.Jones@ed.gov. Please include your name, title, affiliation, mailing and email addresses, and telephone and fax numbers. If you are unable to register electronically, you may fax your registration information to the Advisory Committee staff office at (202) 219-3032. The registration deadline is Monday, September 9, 2013.

Individuals who will need accommodations for a disability in order to attend the hearing (i.e., interpreting services, assistive listening devices, and/or materials in alternative format) should notify the Advisory Committee no later than Monday, September 9, 2013 by contacting Ms. Tracy Jones at (202) 219-2099 or via email at tracy.deanna.jones@ed.gov. We will attempt to meet requests after this date, but cannot guarantee availability of the requested accommodation. The hearing site is accessible to individuals with disabilities. Individuals who use a telecommunications device for the deaf (TTY) may call the Federal Information Relay Service (FRS) toll free at 1-800-877-8339.

Records are kept for Advisory Committee proceedings, and are available for inspection at the Office of the Advisory Committee on Student Financial Assistance, Capitol Place, 80 F Street NW., Suite 413, Washington, DC from the hours of 9:00 a.m. to 5:30 p.m. Eastern Standard Time, Monday through Friday, except Federal holidays. Information regarding the Advisory Committee is available on the Committee's Web site, www2.ed.gov/ACSFA.

Dated: August 14, 2013.
William J. Goggin,
Executive Director, Advisory Committee on Student Financial Assistance.

[FR Doc. 2013-20313 Filed 8-20-13; 8:45 am]

BILLING CODE 4000-01-P